DEPARTMENT OF TRANSPORTATION

Federal Aviation Administration

14 CFR Part 71

User Input to the Aviation Weather Technology Transfer (AWTT) Board

AGENCY: Federal Aviation Administration (FAA), Department of Transportation (DOT).

ACTION: Notice of public meeting.

SUMMARY: The FAA will hold an informal public meeting to seek input from a specific, focused group of aviation weather users. Details: July 14, 2004; Aircraft Owners & Pilots Association (AOPA), 421 Aviation Way, Frederick, MD 21701-4756; 9 a.m. to 4 p.m. The objective of this meeting is to provide an opportunity for a specific group of aviation weather users, general aviation pilots, to provide input on FAA's plans for implementing new weather products.

DATES: The meeting will be held at AOPA, 421 Aviation Way, Frederick, MD 21701-4756: 9 a.m. to 4 p.m. on July 14, 2004.

FOR FURTHER INFORMATION CONTACT: Debi Bacon, Aerospace Weather Policy Division, ARS-100, Federal Aviation Administration, 800 Independence Ave., SW., Washington, DC 20591; telephone number (202) 385-7705; Fax: (202) 385-7701; e-mail: debi.bacon@faa.gov.

SUPPLEMENTARY INFORMATION:

History

In 1999, the Federal Aviation Administration (FAA) established an Aviation Weather Technology Transfer (AWTT) Board to manage the orderly transfer of weather capabilities and products from research and development (R&D) into operational use. The board is composed of mid-level managers from FAA and National Weather Service (NWS) and meet semi-annually or as needed. The Board is responsible to determine the readiness of weather R&D products for experimental use, full operational use for meteorologists or full operational use for end users. The board's determinations are based upon criteria such as users needs, costs and benefits, risks, product readiness and budget.

FAA has the sole responsibility and authority to make decisions intended to provide a safe, secure, and efficient U.S. national airspace system. However, it behooves FAA to not make decisions in a vacuum. Therefore, FAA seeks input from the user community at quarterly meetings before decisions are finalized. Two such meetings were held in January and April 2004.

At the quarterly meetings, industry users are invited to provide for development of concepts of use (ConUse) for individual aviation weather products approaching specific AWTT board decision points. In 2004, meetings are also being used to acquire input for an aviation weather roadmap. Meetings are announced in the Federal Register and open to all interested parties.

While this meeting is the normal quarterly meeting, input will not be sought for any specific weather product. Rather, it is intended to acquire input for the aviation weather roadmap from one specific user group: General aviation pilots. All interested users in other user groups may attend and observe, however only certain, focused information will be sought from the specific group.

Meeting Procedures

(a) The meeting will be informal in nature and will be conducted by representatives of FAA Headquarters.

(b) The meeting will be open to all persons on a space-available basis. Every effort was made to provide a meeting site with sufficient seating capacity for the expected participation. There will be neither admission fee nor other charge to attend and participate.

(c) Attendees should present themselves to the receptionist at the front entrance of the AOPA, 421 Aviation Way, Frederick, MD 21701-4756. Attendees will be further directed to the meeting room location.

(d) FAA personnel will lead a session intended to refine an aviation weather roadmap. Comments from the specific user group will be sued to complete and/or verify a decision-making matrix regarding specific types of weather phenomena. Comments/Feedback on the proposed documents will be captured through discussion between FAA personnel and those focused users attending the meeting.

(e) FAA will not take any action items from this meeting nor make any commitments to accept specific users suggestions. The meeting will not be formally recorded. However, informal tape recordings may be made of the presentations to ensure that each respondent's comments are noted accurately.

(f) An official verbatim transcript or minutes of the informal meeting will not be made. However, a list of the attendees and a completed matrix will be produced. Any person attending may receive a copy of the written information upon request to the information contact, above.

(g) Every reasonable effort will be made to hear each person's feedback consistent with a reasonable closing time for the meeting. Written feedback is also solicited and may be submitted to FAA personnel for the period July 15-August 31, 2004.

Agenda

(a) Opening Remarks and Discussion of Meeting Procedures.

(b) Review of AWTT user input process.

(c) Focused Input Session.

(d) Closing Comments.

* * * * *

Issued in Washington, DC, on June 28, 2004.
Richard J. Heuwinkel,
Acting Staff Director, Office of Aerospace Weather Policy and Standards.

[FR Doc. 04-15116 Filed 7-1-04; 8:45 am]

BILLING CODE 4910-13-M